FEDERAL ELECTION COMMISSION

Sunshine Act Meeting

AGENCY: Federal Election Commission.

DATE AND TIME: Thursday, December 14, 2000, at 10 a.m.

PLACE: 999 E Street, N.W., Washington, D.C. (ninth floor).

STATUS: This meeting will be open to the public.

The following items have been added to the agenda: Dole/Kemp '96, Inc.—Statement of Reasons (LRA #506); Response to October 19, 2000 open meeting regarding Dole-Kemp '96, Inc.

PERSON TO CONTACT FOR INFORMATION: Ron Harris, Press Officer, Telephone (202) 694-1220.

Mary W. Dove,
Acting Secretary of the Commission.

[FR Doc. 00-31745 Filed 12-8-00; 2:51 pm]

BILLING CODE 6775-01-M